DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Technology Transfer Centers (TTC) Network Program Monitoring—NEW

The Substance Abuse and Mental Health Administration's (SAMHSA) will monitor program performance of its Technology Transfer Centers (TTCs). The TTCs disseminate current behavioral health and HIV services research from the National Institute on Drug Abuse, National Institute on Alcohol Abuse and Alcoholism, National Institute of Mental Health, Agency for Healthcare Research and Quality National Institute of Justice, and other sources, as well as other SAMHSA programs. To accomplish this, the TTCs develop and update state-of-the-art, research-based curricula and professional development training.

The TTCs hold a variety of events: Technical assistance events, meetings, trainings, and learning collaboratives. A TTC technical assistance event is defined as a jointly planned consultation generally involving a series of contacts between the TTC and an outside organization/institution during which the TTC provides expertise and gives direction toward resolving a problem or improving conditions. Technical assistance events can be categorized into universal, targeted and intensive. Other TTC events such as meetings, training, strategic planning and learning collaboratives are utilized to support technical assistance. These events are TTC-sponsored or co-sponsored events in which a group of people representing one or more agencies other than the TTC work cooperatively on a project, problem, and/or policy.

SAMHSA intends to use five (5) instruments for program monitoring of TTC events as well as ongoing quality improvement, which are described below.

1. Event Description Form (EDF): The EDF collects event information. This instrument asks approximately 10 questions of TTC faculty/staff relating to the event focus and format. It allows the TTCs and SAMHSA to track the number of events held (See Attachment 1).

2. TTC Post Event Form—Domestic: The Post Event Form—Domestic will be administered immediately following the event. It asks approximately 11 questions of each individual that participated in the event (Attachment 2). The instrument asks the participants to report on general demographic information (gender, race, level of education, primary profession), principal employment setting, employment zip code, satisfaction with the event, if they expect the event to benefit them professionally, if they expect the event to change their practice and if they would recommend the event to a colleague.

3. TTC Post Event Form—International: The Post Event Form—International will be administered immediately following the event. It asks 9 questions of each individual that participated in the event (Attachment 3). The instrument is very similar to the Post Event Form—Domestic and asks the participants to report gender, highest degree received, principal employment setting, employment postal code, satisfaction with the event, if they expect the event to benefit them professionally, if they expect the event to change their practice and if they would recommend the event to a colleague. The main difference between the international and domestic versions of the post event forms is the modification of the demographic questions to make the forms appropriate for distribution outside the U.S. context and relevant to existing PEPFAR indicators. For example, the race/ethnicity questions from the domestic form are not included in the international form. Also, the personal code offers more spaces for characters to provide flexibility in how the personal code is constructed in different countries. Making these change assists SAMHSA in being culturally appropriate (e.g., participants of events of the South Africa HIV ATTC could be offended by being asked if they are “African American”; the concept of “mother's maiden name” does not exist in Vietnam). The change also makes the information better match the needs of PEPFAR, which provides the funding for these centers.

4. TTC Follow-up Form—Domestic: The Follow-up Form—Domestic will be administered 30-days after all events that last a minimum of three (3) hours. The form will be administered to a minimum of 25% of participants who consent to participate in the follow-up process. The form asks about 10 questions (Attachment 3). The instrument asks the participants to report if the information provided in at the event benefited their professional development, will change their practice, if they will use the information in their future work, if information will be shared with colleagues, how the event supported their work responsibilities, how the TTC can improve the events, what other topics would participants like to see TTCs address and in what format.

5. TTC Follow-up Form—International: The Follow-up Form—International will be administered 30-days after all events that last a minimum of three (3) hours. The form will be administered to a minimum of 25% of participants who consent to participate in the follow-up process. The form asks about 10 questions (Attachment 5). The instrument asks the participants to report if the information provided at the event benefited their professional development, will change their practice, if they will use the information in their future work, if information will be shared with colleagues, how the event supported their work responsibilities, how the TTC can improve the events, what other topics would participants like to see TTCs address and in what format. The only difference between the domestic and international follow-up forms is that the international form offers more spaces for characters for the personal code to provide flexibility in how the personal code is constructed in different countries. While the instruments administered immediately at the end of each event are given to all participants, the instruments administered 30 days after each event are sent to a random sample of 25% of those participants who consented to follow-up. This sampling rule applies to all events that last a minimum of three (3) hours.

The information collected on the TTC forms will assist SAMHSA in documenting the numbers and types of participants in TTC events, describing the extent to which participants report improvement in their professional development, and which method is most effective in disseminating knowledge to various audiences. This type of information is crucial to support SAMHSA in complying with GPRA reporting requirements and will inform future development of knowledge dissemination activities.

The chart below summarizes the annualized burden for this project.

Type of respondent | Number of respondents | Responses per respondent | Total responses | Hours per response | Total annual burden hours
ATTC Faculty/Staff:
Event Description Form | 250 | 1 | 250 | .25 | 62.50
Meeting and Technical Assistance Participants:
Post-Event Form | 5,000 | 1 | 5,000 | .12 | 600
Follow-up Form | Covered under CSAT Government Performance and Results Act (GPRA) Customer Satisfaction form (OMB #0930-0197).
Training Participants:
Post-Event Form | 30,000 | 1 | 30,000 | .16 | 4,800
Follow-up Form | 7,500 | 1 | 7,500 | .16 | 1,200
Total | 42,750 |  | 42,750 |  | 6,662.50

Type of respondent | Number of respondents | Responses per respondent | Total responses | Hours per response | Total annual burden hours
MHTTC Faculty/Staff:
Event Description Form | 250 | 1 | 250 | .25 | 62.50
Meeting and Technical Assistance Participants:
Post-Event Form | 5,000 | 1 | 5,000 | .12 | 600
Follow-up Form | Covered under CSAT Government Performance and Results Act (GPRA) Customer Satisfaction form (OMB #0930-0197).
Training Participants:
Post-Event Form | 30,000 | 1 | 30,000 | .16 | 4,800
Follow-up Form | 7,500 | 1 | 7,500 | .16 | 1,200
Total | 42,750 |  | 42,750 |  | 6,662.50

Type of respondent | Number of respondents | Responses per respondent | Total responses | Hours per response | Total annual burden hours
PTTC Faculty/Staff:
Event Description Form | 250 | 1 | 250 | .25 | 62.50
Meeting and Technical Assistance Participants:
Post-Event Form | 5,000 | 1 | 5,000 | .12 | 600
Follow-up Form | Covered under CSAT Government Performance and Results Act (GPRA) Customer Satisfaction form (OMB #0930-0197)
Training Participants:
Post-Event Form | 30,000 | 1 | 30,000 | .16 | 4,800
Follow-up Form | 7,500 | 1 | 7,500 | .16 | 1,200
Total | 42,750 |  | 42,750 |  | 6,662.50

Summary Table
Instruments | Number respondents | Responses per respondents | Burden hours
TTC Event Description Form | 750 | 1 | 187.50
TTC Post Event Form—Domestic and International | 105,000 | 1 | 16,200
TTC Follow up Form—Domestic and International | 22,500 | 1 | 3,600
Total | 128,250 | 1 | 19,987.50

Send comments to Summer King, SAMHSA Reports Clearance Officer, Room 15E57-B, 5600 Fishers Lane, Rockville, MD 20852 or email a copy at summer.king@samhsa.hhs.gov. Written comments should be received by December 14, 2018.

Summer King,
Statistician.

[FR Doc. 2018-22409 Filed 10-12-18; 8:45 am]

BILLING CODE 4162-20-P